ENVIRONMENTAL PROTECTION AGENCY

40 CFR Part 52

[EPA-R08-OAR-2011-0114; FRL-9771-9]

Approval, Disapproval and Promulgation of State Implementation Plans; State of Utah; Regional Haze Rule Requirements for Mandatory Class I Areas Under 40 CFR 51.309; Correction

AGENCY: Environmental Protection Agency (EPA).

ACTION: Final rule; correction.

SUMMARY: The EPA is supplementing the preamble to the final rule that appeared in the Federal Register on December 14, 2012. This final rule partially approved and partially disapproved a State Implementation Plan (SIP) revision submitted by the State of Utah on May 26, 2011 that addresses regional haze. The final rule preamble inadvertently did not include language pertaining to judicial review, and this document adds that language.

DATES: Effective on January 14, 2013.

FOR FURTHER INFORMATION CONTACT: Laurel Dygowski, Air Program, Mailcode 8P-AR, Environmental Protection Agency, Region 8, 1595 Wynkoop Street, Denver, Colorado 80202-1129, (303) 312-6144, dygowski.laurel@epa.gov.

SUPPLEMENTARY INFORMATION: In Federal Register document 2012-29406 published in the Federal Register on December 14, 2012 (77 FR 74355), the following corrections are made:

1. On page 74372, in the first column, in section V. Statutory and Executive Order Reviews, paragraph L. is added to read as follows: “L. Judicial Review—Under section 307(b)(1) of the Clean Air Act, petitions for judicial review of this action must be filed in the United States Court of Appeals for the appropriate circuit by March 25, 2013. Filing a petition for reconsideration by the Administrator of this final rule does not affect the finality of this action for the purposes of judicial review nor does it extend the time within which a petition for judicial review may be filed, and shall not postpone the effectiveness of such rule or action. This action may not be challenged later in proceedings to enforce its requirements. (See CAA section 307(b)(2).)”

Dated: December 20, 2012.
James B. Martin,
Regional Administrator, Region 8.

[FR Doc. 2013-01081 Filed 1-18-13; 8:45 am]

BILLING CODE 6560-50-P